DEPARTMENT OF THE INTERIOR

Central Utah Project Completion Act: Availability of Draft Environmental Assessment; Block Notice 1A, Heber Sub-Area Irrigation to M&I Water Conversion, Wasatch County, UT

AGENCY: Department of the Interior, Office of the Assistant Secretary—Water and Science.

ACTION: Notice.

SUMMARY: The Central Utah Water Conservancy District (CUWCD) and the U.S. Department of the Interior (Interior), as joint lead agencies, are proposing to administratively convert Central Utah Project (CUP) Bonneville Unit water delivered under Development Block Notice No. 1A and currently dedicated to the Heber Sub-Area from irrigation to municipal and industrial (M&I) use. The conversion would include up to 12,100 acre-feet of irrigation water in Wasatch County that is currently intended to provide supplemental irrigation water to commercially viable agricultural tracts that have been deemed irrigable under Bureau of Reclamation (Reclamation) law. The irrigation water would be converted incrementally to M&I use, when requested by petitioners and contract holders, over a period of up to 25 years.

DATES: Submit written comments on the Draft EA by July 21, 2011.

ADDRESSES: Send written comments on the Draft EA to Sarah Sutherland, Heber Sub-Area Irrigation to M&I Water Conversion, 355 West University Parkway, Orem, UT 84058-7303, by e-mail to sarah@cuwcd.com, or by Fax at (801) 226-7171. Copies of the Draft EA are available for inspection at: Central Utah Water Conservancy District, 355 West University Parkway, Orem, Utah 84058-7303, or the Department of the Interior, Central Utah Project Completion Act Office, 302 East 1860 South, Provo, Utah 84606. In addition, the document is available at http://www.cuwcd.com and http://www.cupcao.gov.

FOR FURTHER INFORMATION CONTACT: Mr. Lynn Hansen, (801) 379-1238, or e-mail at lhansen@usbr.gov.

Before including your name, address, phone number, e-mail address, or other personal identifying information in your comment, you should be aware that your entire comment—including your personal identifying information—may be made publicly available at any time. While you can ask us in your comment to withhold your personal identifying information from public review, we cannot guarantee that we will be able to do so.

Dated: June 15, 2011.
Reed R. Murray,
Program Director, Central Utah Project Completion Act, Department of the Interior.

[FR Doc. 2011-15359 Filed 6-20-11; 8:45 am]

BILLING CODE 4310-MN-P